FEDERAL DEPOSIT INSURANCE CORPORATION

Sunshine Act Meeting; Notice of Cancellation of Agency Meeting

Consistent with recent guidance from the Office of Management and Budget, and out of concern for the health of staff that would have been required to participate live, the FDIC has decided to proceed with tomorrow's previously announced open Board of Directors meeting on a notational basis. Vote results and any Board Member statements will be released to the public following the votes.

No earlier notice of this cancellation was practicable.

Dated: March 16, 2020.
Federal Deposit Insurance Corporation.
Robert E. Feldman,
Executive Secretary.

[FR Doc. 2020-05846 Filed 3-17-20; 11:15 am]

BILLING CODE 6714-01-P